EQUAL EMPLOYMENT OPPORTUNITY COMMISSION

Agency Information Collection Activities: Notice of Submission for OMB Review; Final Comment Request

Correction

In notice document 05-23359 beginning on page 71294 in the issue of Monday, November 28, 2005 make the following corrections:

1. On page 71295, in the third column, in the first paragraph, in the next to last line “curse” should read “course”.

2. On page 71296, in second column, in the first paragraph, in the third line “with. ``Two” should read “with ``Two”.

3. On the same page, in the same column, in the first full paragraph, in the next to last line “200 Census Data” should read “2000 Census Data”.

4. On the same page, in the third column, in the first full paragraph, eight lines from the bottom “EEO-O1 data” should read “EEO-1 data”.

5. On page 71299, in the first column, in the second full paragraph, 14 lines from the bottom “with” should read “within”.

6. On page 71300, in the first column, in the first paragraph, in the 10th line “us” should read “use”.

7. On page 71301, in the first column, in the first full paragraph, in the first line “on-time” should read “one-time”.

8. On page 71302, in the third column, in the first full paragraph, in the eighth line “directors of others” should read “directors or others”.

9. On the same page, in the same column, in the same paragraph, in the 11th line “executive” should read “executives”.

10. On page 71303, in the second column, in the first full paragraph, in the second line “lobes” should read “jobs”.

11. On the same page, in the same column, in the second full paragraph, in the fifth line “factor-related” should read “factory-related”.

[FR Doc. C5-23359 Filed 12-20-05; 8:45 am]

BILLING CODE 1505-01-D

DEPARTMENT OF VETERANS AFFAIRS

Veterans' Disability Benefits Commission; Notice of Meeting

Correction

In notice document 05-24108 appearing on page 74867 in the issue of December 16, 2005, make the following correction:

In the third column, in the first paragraph, in the ninth line, “9:30 a.m.” should read “8:30 a.m.”.

[FR Doc. C5-24108 Filed 12-20-05; 8:45 am]

BILLING CODE 1505-01-D